DEPARTMENT OF DEFENSE

Department of the Navy

Meeting of the Board of Advisors to the Superintendent, Naval Postgraduate School

AGENCY: Department of the Navy, DOD.

ACTION: Notice of open meeting.

SUMMARY: The purpose of the meetings is to elicit the advice of the board on the Naval Service's Postgraduate Education Program. The board examines the effectiveness with which the Naval Postgraduate School is accomplishing its mission. To this end, the board will inquire into the curricula, instruction, physical equipment, administration, state of morale of the student body, faculty, and staff; fiscal affairs; and any other matters relating to the operation of the Naval Postgraduate School as the board considers pertinent. The meetings will be open to the public.

DATES: The meetings will be held on Tuesday, April 20, 2004, from 8 a.m. to 4:30 p.m. and on Wednesday, April 21, 2004, from 8 a.m. to 2 p.m. All written comments regarding these meetings should be received by April 12, 2004, and be directed to Superintendent, Naval Postgraduate School (Attn: Jaye Panza), 1 University Circle, Monterey, CA 93943-5000 or by fax (831) 656-3145.

ADDRESSES: The meetings will be held at the Naval Postgraduate School, Herrmann Hall, 1 University Circle, Monterey, CA.

FOR FURTHER INFORMATION CONTACT: Mrs. Jaye Panza, Naval Postgraduate School, 1 University Circle, Monterey, CA 93943-5000, telephone number (831) 656-2514.

Dated: March 19, 2004.
S.K. Melancon,
Paralegal Specialist, Office of the Judge Advocate General, Alternate Federal Register Liaison Officer.

[FR Doc. 04-6673 Filed 3-24-04; 8:45 am]

BILLING CODE 3810-FF-U